DEPARTMENT OF HEALTH AND HUMAN SERVICES

Centers for Disease Control and Prevention

[Docket No. CDC-2017-0059]

Notice of Intent To Prepare an Environmental Impact Statement, Public Scoping Meeting, and Request for Comments; Acquisition of Site for Development as a New Consolidated Campus for the Centers for Disease Control and Prevention/National Institute for Occupational Safety and Health (CDC/NIOSH) in Cincinnati, Ohio

AGENCY: Centers for Disease Control and Prevention (CDC), Department of Health and Human Services (HHS).

ACTION: Notice of intent; announcement of public meeting; and request for comments.

SUMMARY: The Centers for Disease Control and Prevention (CDC) within the Department of Health and Human Services (HHS), in cooperation with the General Services Administration (GSA), announces its intent to prepare an Environmental Impact Statement (EIS) to analyze and assess the environmental impacts of the proposed acquisition of a site in Cincinnati, Ohio, and the development of this site into a new consolidated CDC/National Institute for Occupational Safety and Health (NIOSH) campus (Proposed Action). The site being considered for acquisition and development is bounded by Martin Luther King Drive East to the south, Harvey Avenue to the west, Ridgeway Avenue to the north, and Reading Road to the east.

This notice is pursuant to the requirements of the National Environmental Policy Act of 1969 (NEPA) as implemented by the Council on Environmental Quality (CEQ) Regulations (40 CFR parts 1500-1508). CDC, in cooperation with GSA, also intends to initiate consultation, as required by Section 106 of the National Historic Preservation Act (NHPA), to evaluate the potential effects, if any, of the Proposed Action on historic properties.

DATES:

Public Scoping Meeting: A public scoping meeting in open house format will be held on August 1, 2017, in Cincinnati, Ohio. The meeting will begin at 6:00 p.m. and end no later than 9:00 p.m.

Written comments: Written scoping comments must be submitted by August 14, 2017.

Deadline for Requests for Special Accommodations: Persons wishing to participate in the public scoping meeting who need special accommodations should contact Harry Marsh at 770-488-8170 by 5:00 p.m. Eastern Time, July 26, 2017.

ADDRESSES: The public scoping meeting will be held at the Walnut Hills High School, 3250 Victory Parkway, Cincinnati, Ohio 45207. Attendees should use the Parking Lot D entrance.

You may submit comments identified by Docket No. CDC-2017-0059 by either of the following methods:

• Federal eRulemaking Portal: http://www.regulations.gov (Follow the instructions for submitting comments).

• U.S. Mail: Harry Marsh, Architect, Office of Safety, Security and Asset Management (OSSAM), Centers for Disease Control and Prevention, 1600 Clifton Road NE., MS-K80, Atlanta, Georgia 30329-4027.

Instructions: All submissions must include the agency name and Docket Number. All relevant comments received will be posted to http://www.regulations.gov (personally identifiable information, except for first and last names, will be redacted). For access to the docket to review background documents or comments received, go to http://www.regulations.gov.

FOR FURTHER INFORMATION CONTACT: Harry Marsh, Architect, Office of Safety, Security and Asset Management (OSSAM), Centers for Disease Control and Prevention, 1600 Clifton Road NE., MS-K80, Atlanta, Georgia 30329-4027, phone: (770) 488-8170, or email: cdc-cincinnati-eis@cdc.gov.

SUPPLEMENTARY INFORMATION:

Background: CDC is dedicated to protecting health and promoting quality of life through the prevention and control of disease, injury, and disability. NIOSH, one of CDC's Centers, Institute, and Offices, was established by the Occupational Safety and Health Act of 1970. NIOSH plans, directs, and coordinates a national program to develop and establish recommended occupational safety and health standards; conduct research and training; provide technical assistance; and perform related activities to assure safe and healthful working conditions for every working person in the United States.

Three NIOSH research facilities—the Robert A. Taft Campus, Taft North Campus, and the Alice Hamilton Laboratory Campus—currently are located in Cincinnati, Ohio. Even with multiple renovations through the years, these facilities no longer meet the needs of modern research. The facilities' deficiencies adversely affect NIOSH's ability to conduct its important Cincinnati-based occupational safety and health research. The facilities' outdated designs create health and safety challenges for NIOSH laboratory employees and administrative staff. It is not possible to renovate the facilities located on the three campuses to meet current standards and requirements. Additionally, the current distribution of NIOSH activities across separate campuses results in inefficiencies in scientific collaboration and the duplication of operational support activities. Therefore, CDC is proposing to relocate and consolidate its Cincinnati-based functions and personnel (approximately 550 employees) currently housed at the three existing campuses to a new, consolidated campus in Cincinnati.

Potential locations for the proposed new campus were identified through a comprehensive site selection process conducted by GSA on behalf of CDC. In June 2016, GSA issued a Request for Expressions of Interest (REOI) seeking potential sites capable of accommodating the proposed new campus. The REOI specified minimum and additional functional, geographical, and environmental criteria that would be used to evaluate sites for suitability. In particular, candidate sites were to be from 10 to 17 acres in size and located in Cincinnati, within a certain area (Delineated Area) defined by factors such as transportation infrastructure, proximity to other research facilities, and the residence patterns of current NIOSH employees.

In response to the REOI, GSA received seven expressions of interest (i.e., Solicited Sites). Following an assessment of each site based on the minimum and additional criteria, GSA found that only one site qualified for further consideration. During this screening and assessment process, GSA identified one additional site (i.e., Unsolicited Site) that was added to the qualifying Solicited Site to create a larger parcel better capable of supporting the development of the proposed campus. The resulting combined site (i.e., the Site) encompasses all land between Martin Luther King Drive East to the south, Harvey Avenue to the west, Ridgeway Avenue to the north, and Reading Road to the east in Cincinnati, Ohio. All other Solicited Sites were eliminated from further consideration because they did not adequately meet the selection criteria specified in the REOI or, in one case, were withdrawn from consideration by the offeror.

In accordance with NEPA, as implemented by the CEQ regulations (40 CFR parts 1500-1508), CDC is initiating the preparation of an EIS for the proposed acquisition of the Site and construction of a new consolidated CDC/NIOSH campus on the Site. Under NEPA, Federal agencies are required to evaluate the environmental effects of their proposed actions and a range of reasonable alternatives to the proposed action before making a decision. At a minimum, the EIS will evaluate the following two alternatives: the Proposed Action Alternative (acquisition of the Site and construction of a new consolidated CDC/NIOSH campus) and the No Action Alternative (continued use of the existing campuses for the foreseeable future).

Scoping Process: In accordance with NEPA, a public scoping process will be conducted to establish the range of issues to be addressed during the preparation of the EIS. Scoping is an early and open process for determining the scope of issues to be addressed and identifying issues that should be taken into account in selecting an alternative for implementation. To that end, during the scoping process, CDC will actively seek input from interested people, organizations, Federally-recognized Native American tribes, and Federal, state, and regional agencies.

The purpose of this Notice is to inform interested parties regarding CDC's plan to prepare an EIS for the proposed Site acquisition in Cincinnati, Ohio and the development of the Site into a new consolidated HHS/CDC/NIOSH campus; to provide information on the nature of the Proposed Action; and to initiate the scoping process. The public scoping meeting will be held on August 1, 2017 at the Walnut Hills High School, 3250 Victory Parkway, Cincinnati, Ohio 45207, from 6:00 p.m. to 9:00 p.m. Eastern Time. Attendees should use the Parking Lot D entrance. The public scoping meeting will be in open house format. General information on the Site and the Proposed Action will be provided and representatives of CDC and GSA will be available to answer one-on-one questions. There will be no formal presentation or question-and-answer session. Participants may arrive at any time between 6:00 p.m. and 9:00 p.m. Eastern Time. Comment forms will be provided for written comments and a stenographer will be available to transcribe oral comments. Through the NEPA scoping process, CDC will also facilitate consultation with the public as required by Section 106 of the NHPA.

Dated: July 6, 2017.
Sandra Cashman,
Executive Secretary, Centers for Disease Control and Prevention.

[FR Doc. 2017-14474 Filed 7-13-17; 8:45 am]

BILLING CODE 4163-18-P